DEPARTMENT OF COMMERCE

International Trade Administration

[A-533-810]

Stainless Steel Bar From India: Final Results of Antidumping Duty Administrative Review; 2022-2023

AGENCY: Enforcement and Compliance, International Trade Administration, Department of Commerce.

SUMMARY: The U.S. Department of Commerce (Commerce) determines that producers/exporters of stainless steel bar (SS bar) subject to this review made sales of subject merchandise at prices below normal value during the period of review (POR), February 1, 2022, through January 31, 2023. We further determine that a producer/exporter of SS bar from India did not make sales of subject merchandise below normal value during the POR.

DATES: Applicable September 10, 2024.

FOR FURTHER INFORMATION CONTACT: Hermes Pinilla, AD/CVD Operations, Office I, Enforcement and Compliance, International Trade Administration, U.S. Department of Commerce, 1401 Constitution Avenue NW, Washington DC 20230; telephone: (202) 482-3477.

SUPPLEMENTARY INFORMATION:

Background

On March 5, 2024, Commerce published in the Federal Register the Preliminary Results of the 2022-2023 administrative review of the antidumping duty order on SS bar from India.¹ We invited interested parties to comment on the Preliminary Results. On June 10, 2024, we extended the deadline for issuing the final results of administrative review to August 29, 2024.² On July 22, 2024, Commerce tolled certain deadlines in this administrative proceeding by seven days.³ The deadline for issuing the final results of administrative review is now September 5, 2024. Commerce conducted this review in accordance with section 751(a) of the Tariff Act of 1930, as amended (the Act).

¹ See Stainless Steel Bar from India: Preliminary Results of Antidumping Duty Administrative Review; 2022-2023, 89 FR 15812 (March 5, 2024) (Preliminary Results), and accompanying Preliminary Decision Memorandum (PDM).

² See Memorandum, “Extension of Deadline for Final Results,” dated June 10, 2024.

³ See Memorandum, “Tolling of Deadlines for Antidumping and Countervailing Duty Proceedings,” dated July 22, 2024.

Scope of the Order ⁴

⁴ See Antidumping Duty Orders: Stainless Steel Bar from Brazil, India and Japan, 60 FR 9661 (February 21, 1995) (Order).

The product covered by the Order is SS bar from India. A full description of the scope of the Order is contained in the Issues and Decision Memorandum.⁵

⁵ See Issues and Decision Memorandum.

Analysis of Comments Received

All issues raised in the case and rebuttal briefs filed by parties in this review are listed in the appendix to this notice and addressed in the Issues and Decision Memorandum.⁶ The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

⁶ See Memorandum, “Decision Memorandum for the Final Results of the Antidumping Duty Administrative Review of Stainless Steel Bar from India; 2022-2023,” dated concurrently with, and hereby adopted by, this notice (Issues and Decision Memorandum).

Changes Since the Preliminary Results

Based on our analysis of the comments received, we made certain cost related adjustments to Laxcon Steels Limited's, and its affiliates', Ocean Steels Private Limited's, Metlax International Private Limited's, Parvati Private Limited's, and Mega Steels Private Limited's (collectively, Laxcon) information.⁷ In addition, we recalculated Laxcon's reported indirect selling expense calculation ⁸ and removed an adjustment to U.S. price reported under a certain billing adjustment field (BILLADJ1U) for Aamor Inox Limited.⁹ For a detailed discussion of the issues raised by parties, see the Issues and Decision Memorandum.

⁷ Id. at Comments 1, 3, 4, and 5.

⁸ Id. at Comment 6.

⁹ Id. at Comment 8.

Rate for Non-Examined Companies

The statute and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review.

Under section 735(c)(5)(A) of the Act, the all-others rate is normally an amount equal to the weighted average of the estimated weighted-average dumping margins established for exporters and producers individually investigated, excluding any zero or de minimis margins, and any margins determined entirely on the basis of facts available. In this review, we have determined that the estimated weighted-average margin for Aamor is de minimis. Therefore, the only rate that is not zero, de minimis, or based entirely on facts available, is the rate calculated for Laxcon. Accordingly, we assigned a margin of 0.70 percent based on Laxcon's calculated weighted-average dumping margin to the non-examined companies.

Final Results of Review

We determine that the following estimated weighted-average dumping margins exist for the period February 1, 2022, through January 31, 2023:

Producer/exporter | Weighted-average dumping margin (percent)
Laxcon Steels Limited, and its affiliates, Ocean Steels Private Limited, Metlax International Private Limited, Parvati Private Limited, and Mega Steels Private Limited ¹⁰ | 0.70
Aamor Inox Limited | 0.40 (de minimis)
Companies Not Selected for Individual Review |
Astrabite LLP | 0.70
Venus Wire Industries Pvt. Ltd., and its affiliates, Precision Metals, Hindustan Inox Ltd., and Sieves Manufacturers (India) Pvt. Ltd.¹¹ | 0.70

Disclosure

We intend to disclose the calculations performed for these final results of review to the parties within five days after public announcement, in accordance with 19 CFR 351.224(b).

Assessment Rates

Pursuant to section 751(a)(2)(C) of the Act and 19 CFR 351.212(b)(1), Commerce shall determine, and U.S. Customs and Border Protection (CBP) shall assess, antidumping duties on all appropriate entries of subject merchandise in accordance with the final results of this review. For any individually examined respondents whose weighted-average dumping margin is above de minimis, we calculated importer-specific ad valorem duty assessment rates based on the ratio of the total amount of antidumping duties calculated for the examined sales to the total entered value of the examined sales to that importer, and we will instruct CBP to assess antidumping duties on all appropriate entries covered by this. Where either the respondent's weighted-average dumping margin is zero or de minimis within the meaning of 19 CFR 351.106(c)(1), or an importer- (or customer-) specific assessment rate is zero or de minimis, we will instruct CBP to liquidate the appropriate entries without regard to antidumping duties.

¹⁰ Collectively, these companies are known as Laxcon.

¹¹ Collectively, these companies are known as Venus Group.

Commerce's “automatic assessment” will apply to entries of subject merchandise during the POR for which the examined companies did not know that the merchandise they sold to an intermediary (e.g., a reseller, trading company, or exporter) was destined for the United States. In such instances, we will instruct CBP to liquidate unreviewed entries at the all-others rate (12.45 percent ¹²), if there is no rate for the intermediate company(ies) involved in the transaction.

¹² See Order at 66921.

For the companies that were not selected for individual examination, we will instruct CBP to assess antidumping duties at a rate equal to the weighted-average dumping margin established in the final results of review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review in the Federal Register, as provided for by section 751(a)(2) of the Act: (1) the cash deposit rate for companies subject to this review will be the rates established in these final results of the review; (2) for merchandise exported by producers or exporters not covered in this review but covered in a prior segment of the proceeding, the cash deposit rate will continue to be the company-specific rate published for the most recently completed segment of this proceeding; (3) if the exporter is not a firm covered in this review, a prior review, or the original investigation but the producer is, then the cash deposit rate will be the rate established for the most recent period for the producer of the merchandise; (4) the cash deposit rate for all other producers or exporters will continue to be 12.45 percent,¹³ the all-others rate established in the investigation. These cash deposit requirements, when imposed, shall remain in effect until further notice.

¹³ See Order, 60 FR at 66921.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: September 4, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes From the Preliminary Results

V. Discussion of the Issues

Comment 1: Whether to Revise Laxcon's Reported Cost

Comment 2: Whether to Revise Mega Steels Private Limited's Reported Costs

Comment 3: Whether to Revise Ocean Steels Private Limited's Reported Costs

Comment 4: Whether to Revise Metlax International Private Limited's Reported

Costs

Comment 5: Whether to Disallow Laxcon's Offset for an Affiliated Party's

Interest Expenses

Comment 6: Whether to Revise Laxcon's Indirect Selling Expenses

Comment 7: Whether to Reject Aamor's Claimed Billing Adjustment

Comment 8: Whether to Deny Aamor's Request for the Addition of An Export Tax Adjustment

VI. Recommendation

[FR Doc. 2024-20399 Filed 9-9-24; 8:45 am]

BILLING CODE 3510-DS-P